DEPARTMENT OF TRANSPORTATION

Federal Aviation Administration

14 CFR Part 39

[Docket No. FAA-2005-22170; Directorate Identifier 2005-NM-073-AD]

RIN 2120-AA64

Airworthiness Directives; Airbus Model A320-111, -211, -212, and -231 Airplanes

AGENCY: Federal Aviation Administration (FAA), Department of Transportation (DOT).

ACTION: Notice of proposed rulemaking (NPRM).

SUMMARY: The FAA proposes to adopt a new airworthiness directive (AD) for certain Airbus Model A320-111, -211, -212, and -231 airplanes. This proposed AD would require, for certain airplanes, modifying the cables and access holes to the inner tank fuel pumps; and, for certain other airplanes, inspecting the fuel pump access holes and modifying the access holes, if necessary. This proposed AD results from fuel system reviews conducted by the manufacturer. We are proposing this AD to prevent chafing of the fuel pump cables, which could result in electrical arcing and possible ignition of fuel vapors and consequent explosion of the fuel tank.

DATES: We must receive comments on this proposed AD by September 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Include the docket number “Docket No. FAA-2005-22170; Directorate Identifier 2005-NM-073-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The FAA has examined the underlying safety issues involved in recent fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (67 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: Single failures, single failures in combination with another latent condition(s), and in-service failure experience. For all four criteria, the evaluations included consideration of previous actions taken that may mitigate the need for further action.

The Joint Aviation Authorities (JAA) has issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

We have determined that the actions identified in this AD are necessary to reduce the potential of ignition sources inside fuel tanks, which, in combination with flammable fuel vapors, could result in fuel tank explosions and consequent loss of the airplane.

The Direction Générale de l'Aviation Civile (DGAC), which is the airworthiness authority for France, notified us that an unsafe condition may exist on certain Airbus Model A320-111, -211, -212, and -231 airplanes. The DGAC advises that a design review of the electrical cables and structure around the access holes to the inner tank fuel pumps revealed that cables could be damaged by chafing against sharp edges of the fuel pump access holes. This condition, if not prevented, could result in electrical arcing and possible ignition of fuel vapors and consequent explosion of the fuel tank.

Relevant Service Information

Airbus has issued, for certain Model A320-111, -211, and -231 airplanes, Service Bulletin A320-28-1008, Revision 1, dated April 10, 1989, which describes procedures for modifying the cables and access holes to the inner tank fuel pumps. The modification includes chamfering the edges of the fuel pump access holes, applying protective material to the chamfered areas, installing backshells to the cable connectors, and securing the cables to the backshells.

Airbus has also issued, for certain Model A320-211, -212, and -231 airplanes, Service Bulletin A320-28-1054, dated August 23, 1993, which describes procedures for performing a visual inspection for correct radius of the fuel pump access holes and, as applicable, modifying the fuel pump access holes. The modification includes chamfering the edges of all access holes to the inner tank fuel pumps and applying protective material to the chamfered areas. The service bulletin also describes procedures for reporting all findings to Airbus.

Accomplishing the actions specified in the service information is intended to adequately address the unsafe condition.

The DGAC mandated accomplishment of the service bulletins and issued French airworthiness directive F-2005-031, dated February 16, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously, except as discussed under “Difference Between Service Information and the Proposed AD.”

Difference Between French Airworthiness Directive and the Proposed AD

The applicability of French airworthiness directive F-2005-031 excludes airplanes that accomplished Airbus Service Bulletin A320-28-1008, Revision 1, in service and airplanes that accomplished Airbus Service Bulletin A320-28-1054 in service. However, we have not excluded those airplanes from the applicability of this proposed AD; rather, this proposed AD includes a requirement to accomplish the actions specified in those service bulletins. This requirement would ensure that the actions specified in the service bulletins and required by this proposed AD are accomplished on all affected airplanes. Operators must continue to operate the airplane in the configuration required by this proposed AD unless an alternative method of compliance is approved.

Difference Between Service Information and the Proposed AD

Although Airbus Service Bulletin A320-28-1054 describes procedures for reporting all findings to Airbus, this proposed AD would not require this report. The FAA does not need this information from operators.

Clarification of Inspection Terminology

While Airbus Service Bulletin A320-28-1054 specifies a “visual inspection,” this proposed AD would require a “general visual inspection” to avoid any confusion about the proper type of inspection. We have included a definition of this type of inspection in the proposed AD.

Costs of Compliance

This proposed AD would affect about 17 airplanes of U.S. registry. The proposed actions would be performed at an average labor rate of $65 per work hour, and any needed parts would be supplied from operator inventory.

For about 7 U.S.-registered airplanes subject to Airbus Service Bulletin A320-28-1008, Revision 1, dated April 10, 1989, the proposed modification would take about 3 work hours. Based on these figures, the estimated cost of this proposed modification for U.S. operators is $1,365, or $195 per airplane.

For about 10 U.S.-registered airplanes subject to Airbus Service Bulletin A320-28-1054, dated August 23, 1993, the proposed inspection would take about 1 work hour. Based on these figures, the estimated cost of this proposed inspection for U.S. operators is $650, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22170; Directorate Identifier 2005-NM-073-AD.

Comments Due Date

(a) The FAA must receive comments on this AD action by September 22, 2005.

Affected ADs

(b) None.

Applicability

(c) This AD applies to Airbus Model A320-111, -211, -212, and -231 airplanes, certificated in any category, that have not received Airbus Modification 21088 or 21999 in production; and airplanes that have received Airbus Modification 21088 in production and have manufacturer's serial number 91 to 113 inclusive and 140 to 189 inclusive.

Unsafe Condition

(d) This AD results from fuel systems reviews conducted by the manufacturer. We are issuing this AD to prevent chafing of the fuel pump cables, which could result in electrical arcing and possible ignition of fuel vapors and consequent explosion of the fuel tank.

Compliance

(e) You are responsible for having the actions required by this AD performed within the compliance times specified, unless the actions have already been done.

Inspection and Modification of Fuel Pump Access Holes

(f) Within 58 months after the effective date of this AD, perform the actions required by paragraph (f)(1) or (f)(2) of this AD, as applicable.

(1) For airplanes that have not received Airbus Modification 21088 or 21999 in production: Modify the cables and access holes to the inner tank fuel pumps, in accordance with the Accomplishment Instructions of Airbus Service Bulletin A320-28-1008, Revision 1, dated April 10, 1989.

(2) For airplanes that have received Airbus Modification 21088 in production and have manufacturer's serial number 91 to 113 inclusive and 140 to 189 inclusive: Perform a general visual inspection for the correct radius of the fuel pump access holes and modify the access holes, if necessary, in accordance with the Accomplishment Instructions of Airbus Service Bulletin A320-28-1054, dated August 23, 1993. Do any applicable repairs before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

No Reporting Requirement

(g) Although Airbus Service Bulletin A320-28-1054, dated August 23, 1993, describes procedures for reporting inspection findings to Airbus, this AD does not require such a report.

Alternative Methods of Compliance (AMOCs)

(h) The Manager, International Branch, ANM-116, Transport Airplane Directorate, FAA, has the authority to approve AMOCs for this AD, if requested in accordance with the procedures found in 14 CFR 39.19.

Related Information

(i) French airworthiness directive F-2005-031, dated February 16, 2005, also addresses the subject of this AD.

Issued in Renton, Washington, on August 11, 2005.
Kalene C. Yanamura,
Acting Manager, Transport Airplane Directorate, Aircraft Certification Service.

[FR Doc. 05-16753 Filed 8-22-05; 8:45 am]

BILLING CODE 4910-13-U